ENVIRONMENTAL PROTECTION AGENCY

[OPP-2004-0098; FRL-7365-4]

National Pesticide Information Center & National Pesticide Medical Monitoring Program; Notice of Funds Availability

AGENCY: Environmental Protection Agency (EPA).

ACTION: Notice.

SUMMARY: The Office of Pesticide Programs (OPP) is soliciting proposals from universities and colleges to develop or continue the National Pesticide Information Center (NPIC) and the National Pesticide Medical Monitoring Program (NPMMP). NPIC is a toll-free telephone service that provides science-based information about a wide variety of pesticide-related subjects to anyone within in the Unites States, Puerto Rico, or the Virgin Islands. Medical emergency cases involving humans and domestic animals are provided diagnostic and crisis management assistance. NPMMP is a service that provides a rapid response in the form of skilled technical assistance to persons suspected of being adversely affected by pesticide exposures to all inquiries from within the United States. OPP will award two separate cooperative agreements to run these projects. It is anticipated that an annual budget of about $1,475,000 would be available in fiscal year (FY) 2005 to support NPIC's overall objectives and maintain the services at a level currently offered. The annual funding for the NPMMP project is anticipated to be approximately $158,000 in FY 2005. These will be 5-year cooperative agreements with annual periods of performance and funding depending on the Agency budget in outlying years.

DATES: Applications must be received by EPA on or before October 7, 2004.

ADDRESSES: Applications may be submitted by mail, fax, or electronically. Please follow the detailed instructions provided in Unit III.H.1. of the SUPPLEMENTARY INFORMATION.

FOR FURTHER INFORMATION CONTACT: Frank L. Davido, Information Resources and Services Division (7502C), Office of Pesticide Programs, Environmental Protection Agency, 1200 Pennsylvania Ave., NW., Washington, DC 20460-0001; telephone number: (703) 305-7576; fax number: (703) 305-4646; e-mail address: davido.frank@epa.gov.

SUPPLEMENTARY INFORMATION:

I. Overview Information

The following listing provides certain key information concerning the funding opportunity.

• Federal agency name: Environmental Protection Agency (EPA).

• Funding opportunity title: National Pesticide Information Center (NPIC) & National Pesticide Medical Monitoring Program (NPMMP).

• Announcement type: The initial announcement of a funding opportunity.

• Catalog of Federal Domestic Assistance (CFDA) number: Research Grants No. 66.500.

II. General Information

A. Does this Action Apply to Me?

This action may be of particular interest to universities and colleges who have experience and expertise in pesticide toxicology; environmental chemistry; environmental fate; human and animal medical diagnostic and crisis management assistance; workings with health care providers; quantitative analyses of environmental and biological samples pertaining to pesticides; pesticide poisonings; integrated pest management (IPM); information technology and information management (IT/IM); telecommunication networks; outreach and marketing; and the Federal statutes involved within the Office of Pesticide Programs (OPP), e.g., Federal Insecticide, Fungicide, and Rodenticide Act (FIFRA), Federal Food, Drug, and Cosmetic Act (FFDCA), and Food Quality Protection Act (FQPA). Since other entities may also be interested, the Agency has not attempted to describe all the specific entities that may be interested by this action. If you have any questions regarding the applicability of this action to a particular entity, consult the person listed under FOR FURTHER INFORMATION CONTACT.

B. How Can I Get Additional Information, Including Copies of This Document and Other Related Information?

1. Docket. EPA has established an official public docket for this action under docket identification (ID) number OPP-2004-0098. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/. An electronic version of the public docket is available through EPA's electronic public docket and comment system, EPA Dockets. You may use EPA Dockets at http://www.epa.gov/edocket/ to access the index listing of the contents of the official public docket, and to access those documents in the public docket that are available electronically. Although not all docket materials may be available electronically, you may still access any of the publicly available docket materials through the docket facility identified in Unit II.B.1. Once in the system, select “search,” then key in the appropriate docket ID number.

III. Introduction

A. NPIC

Since the 1980's OPP has provided funding for the National Pesticide Information Center (NPIC) formerly called the National Pesticide Telecommunications Network (NPTN).

FIFRA, as amended, authorizes EPA to monitor incidental exposure to man, animals and the environment, and to identify pesticide pollution, secular trends (continuing trends) and sources of contamination and their relationship to human and environmental effects. FIFRA also calls for a National Monitoring Plan; a national plan for monitoring pesticides in cooperation with other Federal, state or local agencies.

Since the inception of EPA, the Agency has attempted in many ways to conduct specific monitoring projects. NPIC is a part of that effort and is included in the National Monitoring Plan. The idea of a toll free telephone service was initiated in 1978 for exclusive use by health professionals in the recognition and management of pesticide poisonings. Later the telephone service was extended to include the general public and expanded to provide a variety of other pesticide information. Over the years, the number of telephone calls handled has fluctuated annually from about 2,000 to a high of 53,598 in 1990, whereas in the last couple years the annual calls taken range from 23,000-24,500. In the last several years, inquiries have been received from all states plus Puerto Rico, the Virgin Islands, Canada, Mexico, Argentina, Germany, and numerous other foreign countries. Calls are received from hundreds of organizations; however, the general public constitutes the largest percent calling group, generally ranging from 84% to 88% annually.

The peak call load periods are from April through September each year. However, the NPIC has experienced numerous peaks developed from external causes; whereby, adjustments had to be made to adequately handle the workload, e.g. rebalancing staffing.

The NPIC telephone number has been promoted through family and women's magazines, EPA publications, TV and radio public announcements, general news media, and word of mouth. Additionally, attendance of NPIC personnel at professional meetings, e.g., American Academy of Occupational Medicine, National Professional Lawn Care Association, American College of Emergency Physicians, and Annual Pest Control Operators, has increased the visibility of NPIC services. NPIC also devotes considerable resources to its wide range outreach program and is continually addressing under served audiences.

With the formation of an EPA NPIC Oversight and Monitoring Committee (OMC) in the early 1990's and meetings presently continuing, helps information sources used by NPIC to remain accurate, current, and impartial. NPIC operates 10 hours a day, 6:30 a.m. to 4:30 p.m., Monday through Sunday, providing toll free telephone service in the United States, Puerto Rico, and the Virgin Islands. NPIC maintains a library of up-to-date information on a wide variety of pesticide subjects, providing the caller with:

• Pesticide product information.

• Information on recognition and management of pesticide poisonings.

• Toxicology and symptomatic reviews.

• Environmental chemistry.

• Referrals for laboratory analyses, investigation of pesticide incidents, and emergency treatment information.

• Safety information.

• Health and environmental effects.

• Clean-up and disposal procedures.

In emergency situations where additional expertise is needed, human and animal poisonings are referred via a telephone switching system to either the Oregon Poison Center or the National Animal Poison Control Center. Both organizations, being under retainer to NPIC, provide extensive experience in handling pesticide poisonings.

NPIC has continually evolved to better serve its users. It currently provides its callers information in real time by furnishing requested information via the telephone, through e-mail, and fax. Individuals can report pesticide incidents toll free, acquire extensive pesticide-related information via their Web site, and receive current periodic EPA information. Also, OPP can refer a variety of calls received directly to NPIC for reply. NPIC acts as a “sounding board” from the general public as to their awareness and concerns about pesticides.

In addition, the NPIC provides information assistance directly to the OPP's Pesticide Incident Response Officer (PIRO) in order to promote an on-going rapid response to unanticipated, major incidents which may require immediate evaluation and action in emergency situations to persons suspected of being adversely exposed to pesticides. The NPIC possesses expertise to provide highly skilled consultants, diagnostic treatment, and laboratory assistance to the general public via the PIRO.

B. NPMMP

Since the 1980's OPP has provided funding for the National Pesticide Medical Monitoring Program (NPMMP).

FIFRA, as amended, authorizes EPA to monitor incidental exposure to man, animals and the environment, and to identify pesticide pollution, secular trends and sources of contamination and their relationship to human and environmental effects. FIFRA also calls for a National Monitoring Plan; a national plan for monitoring pesticides in cooperation with other Federal, state or local agencies.

Since the inception of EPA, the Agency has attempted in many ways to conduct specific monitoring projects. NPMMP is a part of that effort and is included in the National Monitoring Plan.

In the past 10 years, the NPMMP has received nearly 6,000 referrals from a variety of sources including: State public health departments, health care providers, government agencies, the general public, as well as NPIC. NPMMP is an invaluable resource for many organizations that need to refer inquiries of a complex medical nature to an expert in the field. It is not unusual for an individual to have contacted numerous agencies in search for assistance relating to a suspected pesticide exposure. Callers referred to NPMMP are frequently frustrated or confused, given some of the uncertainties with respect to pesticide exposures, as well as the vast amount of information (sometimes conflicting) that is available to the general public. NPMMP presents an empathetic yet science-based approach to responding to these inquiries. The project offers field investigations, medical toxicological consultations, and laboratory analyses of both biological and environmental samples.

The NPMMP is recognized by many state agencies and health care providers as a national “one of a kind” reliable source for medical consultation for individuals exposed to pesticides. The availability of a laboratory that can analyze various biological samples, i.e., human blood and urine and environment also adds to the uniqueness of the project.

C. NPIC and NPMMP

To continue the NPIC and the NPMMP projects, EPA is soliciting applications from universities and colleges with expertise and working knowledge in the following areas:

1. NPIC. Pesticide toxicology; environmental chemistry; environmental fate; human and animal medical diagnostic and crisis management assistance; emergency medicine; integrated pest management (IPM); extension service; risk communication; conventional pesticides including antimicrobials and products of biotechnology; communication skills with the public; IT/IM; telecommunication networks; outreach and marketing; and the Federal statutes involved within the Office of Pesticide Programs (OPP), e.g., FIFRA, FFDCA, and FQPA.

2. NPMMP. Emergency medicine; pesticide clinical toxicology; environmental chemistry; environmental fate; human and animal medical diagnostic and crisis management assistance; risk communication; workings with health care providers; conventional pesticides including antimicrobials and products of biotechnology; quantitative analyses of environmental and biological samples pertaining to pesticides; pesticide poisonings; extension service; IPM; IT/IM; telecommunication networks; outreach and marketing; and the Federal statutes involved within OPP, e.g., FIFRA, FFDCA, and FQPA.

This document outlines the application requirements and procedures for the NPIC and the NPMMP projects.

III. Program Description

A. Purpose and Scope

1. NPIC. It is well established that the public has difficulty in obtaining accurate, unbiased pesticide information and NPIC fills that void. The mere numbers of telephone calls received yearly (23,000-25,000) by NPIC and over 780,000 hits on its World Wide Web site clearly illustrates the interest the public has concerning pesticide issues. The financial assistance provided under this project will support the delivery to the public of objective, science-based information, on a wide variety of pesticide-related subjects, in real time. In part, on-line pesticide specialist should be capable of providing information in a user-friendly manner and be adept at communicating scientific information to the lay person which in turn promotes informed decision-making on the part of the caller. NPIC is a direct service to the public.

It is also well noted that most health care providers are not well acquainted with the recognition, management, and prevention of health effects from pesticide exposures. Unique to NPIC is that one of the toxicologists is also a physician trained in clinical toxicology and emergency medicine and board certified in the specialties of Public Health and General Preventive Medicine. With a strong background in pesticide toxicology, this physician adds additional depth to the NPIC project in being able to communicate not only with state public health departments and health care providers but also with the general public.

The most tangible and direct interface between NPIC and its clientele is the telephone. This is via a toll-free telephone system. NPIC should provide quality user-friendly service to callers. NPIC must have well qualified pesticide specialists, with the technical expertise to address a variety of types of inquiries ranging from simple to very complex and often controversial. In addition to delivery of information by a toll-free telephone system, fax, mail, and e-mail, the Internet must be made available. Current and accurate information on a wide variety of pesticide subjects must be readily available to the public. This project must be on the cutting edge of, IT/IM, extremely knowledgeable in the world of pesticides, promote an aggressive marketing and outreach program with emphasis on the under-served populations, and sustain excellent customer service.

NPIC must strive to integrate the values of professionalism, teamwork, integrity, accountability, and a strong commitment to the public, as well as, the professional and medical communities, in order to help fulfill their mission and provide exceptional and respectful customer service. Part of this is best accomplished by funding in the form of a cooperative agreement. This allows the university the flexibility to quickly react to new needs for pesticide-related information as initiated by pesticide incidents; new regulations; public interests; IT/IM technology; and specific needs by either the project or EPA. Further, this flexibility encourages involvement of and makes available to NPIC and thus to the public, the full capabilities of the university community with respect to access to: Pesticide specialists from a number of disciplines, e.g., IPM experts, biotechnology, and entomology. In addition, the specialist have opportunities to advance their education through on the job-training; advanced classroom work; exposure at national meetings and symposiums; and numerous interactions with many individuals in OPP. A cooperative agreement at a university setting allows creative thinking and scholarship.

The continual success of NPIC will promote a better understanding into the world of pesticides for all communities (general public, professional, and medical) and help reduce pesticide poisonings. These programs are included in the Catalog of Federal Domestic Assistance under number 66.500 at http://www.cfda.gov/public/whole.pdf.

2. NPMMP. It is widely known that a high percent of the health care providers in the United States are not properly prepared to identify, diagnose, treat, or provide advice to individuals suspected of pesticide exposure. It is also evident that the general public finds it difficult to locate a physician that fully understands pesticide exposure scenarios and who is also capable of discussing the many issues that may be involved and relating this information in a way that is understandable to the lay person. The financial assistance provided under this project will support the delivery to the general public, health care providers, and government agencies information pertaining to both the clinical and basic toxicology of pesticides. NPMMP will provide immediate information and assistance to health care providers, regulatory officials, and other agencies involved in the investigation and management of suspected human illnesses associated with pesticide exposures. The information provided will benefit inquiries by providing unique expertise in pesticide toxicology, and informational assistance relating to the recognition, management, and prevention of pesticide exposures. Thus, this project provides information in real time on suspected pesticide-related illness in both acute and chronic scenarios. Information provided benefits inquiries by answering questions as well as, in some cases, providing assistance in the investigation of suspected illnesses or in an ancillary role in the treatment of acute or chronic disease. NPMMP communicates to the public on a variety of issues relating to pesticides, and directs individuals towards appropriate resources in cases where additional assistance is needed. This assistance is provided by a physician through his/her professional knowledge and experience, and from the added ability of utilizing a laboratory that is capable of analyzing environmental samples and biological (human blood and urine). This physician is trained in clinical toxicology and emergency medicine and board certified in the specialties of Public Health and General Preventive Medicine.

NPMMP provides medical histories and environmental analysis of suspected pesticide illnesses that relate to the current use of pesticides in structural, agricultural, or other environmental situations. It brings attention to the possibility of human illnesses which may not have been suspected by basic toxicology screens but which may exist and require more extensive clinical or basic scientific testing. Some scenarios may relate to specific formulations or based upon the nature of the inquiries received, may indicate that there are problems existing with the exact active ingredients used regardless of formulation. NPMMP will also bring attention to potential cases of illness which may not have been suspected or identified through the regulatory review process for pesticides, as well as cases developing through the misapplication of pesticides.

The NPMMP library of pesticide information that has been assembled by current and previous investigators is being expanded to incorporate new publications from the scientific literature, as well as regulatory decisions relating to pesticides. The library is being electronically scanned in order to enable investigators to have immediate access to important documents, and to facilitate the electronic transfer of information to inquirers in situations where such information is requested or immediately necessary.

Information must be collected from all callers with inquiries to the NPMMP. Data should include basic demographic information, the circumstances surrounding the exposure incident or informational inquiry, the pesticide that is the subject of inquiry, and a certainty and severity index rating. No direct patient care should be provided, since this project is information in nature. However in some cases, medical records may be provided to the investigators in the process of responding to inquiries. The NPMMP investigators must complete training for the implementation of the Health Insurance Portability and Accounting Act (HIPAA). The protocol for the NPMMP should undergo review and approval by the Institutional Review Board of the university or college selected.

The continual success of NPMMP provides immediate assistance to both the general public and health care providers involved in pesticide incidents/exposures. This project brings attention to potential cases of illness which may not have been suspected or identified through the regulatory review process for pesticides, as well as cases developed through the misapplication of pesticides. These programs are included in the Catalog of Federal Domestic Assistance under number 66.500 at http://www.cfda.gov/public/whole.pdf.

B. Goal and Objectives

Through the proposals sought under these projects, EPA intends to work with universities and colleges to develop or continue the NPIC and the NPMMP.

1. NPIC. NPIC is to serve as a source of objective, science-based information, on a wide variety of pesticide-related subjects, in real time. These subjects include: Pesticide products; recognition and management of pesticide poisonings; toxicology; environmental chemistry; safety practices; health and environmental effects; clean-up and disposal; emergency treatment for humans and animals; pesticide regulations and corresponding Federal statutes; and laboratory analyses and pesticide incident investigation assistance.

The objectives of NPIC are to develop or continue to:

• Operate a toll-free telephone service providing a variety of accurate, impartial pesticide information to callers in the United States, Puerto Rico, and the Virgin Islands, in real time. The project will operate Monday through Sunday, 10 hours daily. A recording device will be provided to capture off-hour calls.

• Provide access to NPIC and pesticide-related information through a state of the art World Wide Web site and e-mail.

• Serve as a source of factual unbiased information on pesticide chemistry, toxicology, and environmental fate to all inquiries, including industry, government, medical, agricultural sector, news media, as well as the general public.

• Provide the medical community with diagnostic and crisis management assistance involving pesticide incidents in situations pertaining to both human and animal patients.

• Acquire accurate and complete information on all inquiries considered to be pesticide incidents.

• Computerize all inquiry information as well as pesticide incident data for easy retrieval.

2. NPMMP. NPMMP provides a rapid response in the form of skilled technical assistance to persons suspected of being adversely affected by pesticide exposures. The project will consist of field investigations, medical toxicological consultations, and laboratory analyses of both biological and environmental samples.

The objectives of the NPMMP are to develop or continue to:

• Make information pertaining to both the clinical and basic toxicology of pesticides available to all inquiries from the United States.

• Provide written information on pesticide toxicology, when available and requested, to respond to inquiries.

• Provide quantitative laboratory measurements of pesticides in environmental samples, as well as in select cases, in biological samples of exposed human beings.

• Define inquiries and incidents relating to human pesticide exposures.

• Develop and maintain computer access to toxicology databases including Toxline (National Library of Medicine), Poisindex (Micromedex), SciFinder Scholar, etc.

• Expand the library of basic and clinical toxicology journals, reports of industry and government, textbooks, and other paper and electronic resources pertaining to pesticides and their impact on human health.

C. Eligibility

1. Applicants. Grant funds are available to universities and colleges who have experience and expertise in pesticide toxicology; environmental chemistry; environmental fate; human and animal medical diagnostic and crisis management assistance; extension service; pesticide poisonings; emergency medicine; quantitative analyses of environmental and biological samples; conventional pesticides including antimicrobials and products of biotechnology; IPM; IT/IM; telecommunication networks; outreach and marketing; and the Federal statutes involved within OPP, e.g., FIFRA, FFDCA, and FQPA.

To be eligible for consideration, applicants must meet all of the following criteria. Failure to meet the following criteria will result in the automatic disqualification for consideration of the proposal for funding:

• Be an applicant who is eligible to receive funding under this announcement.

• The proposal must address all of the high priority areas for consideration.

• The proposal must meet all format and content requirements contained in this notice.

• The proposal must comply with the directions for submittal contained in this notice.

There is a 5% cost share requirement for these projects.

2. Qualifications. Applicants must demonstrate experience and expertise in the following high priority areas for consideration to serve as the source that is to provide objective science-based information, on a wide variety of pesticide-related subjects, in real-time and to fulfill the objectives of this program. Applicants will be evaluated on the following criteria:

i. National Pesticide Information Center (NPIC):

a. Academic experience requirements:

• A university containing one or more of the following: School of Medicine; School of Public Health; School of Veterinary Medicine; and/or College of Allied Sciences.

• Documented experience and expertise in four or more of the following disciplines: Epidemiology; occupational health; industrial hygiene; environmental health; agricultural health; pesticide toxicology; animal toxicology; risk assessment; and health education.

• Documented experience and expertise in three or more of the following: Environmental biology; agricultural ecology; fish/wildlife biology; agronomy; horticulture; environmental chemistry; extension service; IPM; genetic engineering; gene research; water quality; and food safety.

• Documented experience and expertise in survey design and bio-statistics.

• Documented experience and expertise in marketing; outreach; communications; and IT/IM.

• Documented experience and expertise in basic toxicology; clinical toxicology; and clinical laboratory analyses.

• Knowledge of the Pesticide Registration Improvement Act, specifically section 33(c)(B), Worker Protection.

b. Technical experience requirements:

• Documented experience of the proposed staff to establish and maintain a large-scale telecommunications network, including telephone, fax, e-mail, and Web site.

• Demonstrated expertise and experience with creation of an up-to-date, modern Web site for posting and delivery of NPIC information and for links to objective or otherwise relevant pesticide information on the World Wide Web.

• Demonstrated expertise and experience in the establishment of an information management retrieval system which can be used to “mine” objective pesticide-related information from selected sites on the World Wide Web and/or hard copy resources. The information should be indexed and made searchable and selectively retrievable by the general public through a user-friendly web browser-based interface.

• Documented experience and expertise in the creation and management of a computer system, including a computer network, with workstations for pesticide specialists and a UNIX server for housing the NPIC web site, information base (repository of electronic pesticide information), and related software (e.g., Apache Web server, Oracle data base) capable of supporting the needs of NPIC. Also, including the implementation and management of a firewall to provide a high-level of security for NPIC computers, data, and information.

• Broad, multidisciplinary experience in knowledge of pesticide, uses, formulations, toxicity, health and environmental effects, and disposal and considerable experience and knowledge in the Federal statutes, e.g., FIFRA, FFDCA, and FQPA, involving OPP, including risk assessment, water quality, food safety, and OPP's entire regulatory process.

• Demonstrated experience and expertise with all pesticides (including antimicrobials and biopesticides), pesticide-related issues and pesticide regulations.

• Experience with the medical community, health care providers, poison control centers and others including all levels of government that are involved in the diagnostic and crisis management concerning human and domestic animal poisonings.

c. Staffing requirements:

• The university/college will consist of a project director; co-principal investigators; a project coordinator; and core staff.

• The university/college must have a physician with extensive knowledge in medical/clinical toxicology and pesticides. This individual must be able to demonstrate the ability to handle pesticide cases of clinical importance or unexpected outcome and also be able to interpret human health information in the context of the regulatory risk assessment process. This physician must be well-versed in the major federal/state statutes governing the use of pesticides in the United States. Also, it is strongly preferred this physician be physically located on the same campus as NPIC.

• The university/college must have the ability to adequately handle spanish speaking inquiries; therefore, they must demonstrate an ability to present and provide all pertinent pesticide information in spanish.

ii. National Pesticide Medical Monitoring Program (NPMMP):

a. Academic experience requirements:

• A university containing one or more of the following: School of Medicine; School of Public Health; School of Veterinary Medicine; and/or College of Allied Sciences.

• Documented experience and expertise in four or more of the following disciplines: Epidemiology; occupational health; emergency medicine; industrial hygiene; environmental health; agricultural health; pesticide toxicology; animal toxicology; risk assessment; and health education.

• Documented experience and expertise in three or more of the following: Environmental biology; agricultural ecology; agronomy; horticulture; environmental chemistry; extension service; IPM; genetic engineering; gene research; water quality; and food safety.

• Documented experience and expertise in survey design and bio-statistics.

• Documented experience and expertise in marketing; outreach; communications; and IT/IM.

• Documented experience and expertise in basic toxicology; clinical toxicology; and clinical laboratory analyses.

b. Technical experience requirements:

• Broad, multidisciplinary experience in knowledge of pesticide, uses, formulations, toxicity, health and environmental effects, and disposal and considerable experience and knowledge in the Federal statutes, e.g., FIFRA, FFDCA, FQPA, involving OPP, including risk assessment, water quality, food safety, and OPP's entire regulatory process.

• Demonstrated experience and expertise with all pesticides(including antimicrobials and biopesticides), pesticide-related issues and pesticide regulations.

• Experience with the medical community, health care providers, poison control centers and others including all levels of government that are involved in the diagnostic and crisis management concerning human and domestic animal pesticide poisonings.

• Has published on the topic of pesticide poisonings and other pesticide-related issues.

• Experience with the migrant worker health problems, especially as it relates to pesticides, as well as, other under served occupational populations.

c. Staffing requirements:

• The university/college will consist of a principal investigator and appropriate staff.

• The university/college must have a physician with extensive knowledge in medical/clinical toxicology and pesticides. This individual must be able to demonstrate the ability to handle pesticide cases of clinical importance or unexpected outcome and also be able to interpret human health information in the context of the regulatory risk assessment process. This physician must be well-versed in the major federal/state statutes governing the use of pesticides in the United States. Also, it is strongly preferred this physician be physically located on the same campus as NPIC and have a working knowledge of the overall mission and objectives of NPIC.

D. Authority

EPA expects to enter into cooperative agreements under the authority provided in FIFRA section 20 which authorizes the Agency to issue grants or cooperative agreements for research, public education, training, monitoring, demonstration, and studies. Regulations governing these cooperative agreements are found at 40 CFR part 30 for institutions of higher education, colleges and universities, and non-profit organizations; and 40 CFR part 31 for states and local governments. In addition, the provisions in 40 CFR part 32, governing government wide debarment and suspension; and the provisions in 40 CFR part 40, regarding restrictions on lobbying apply. All costs incurred under this program must be allowable under the applicable OMB Cost Circulars: A-87 (states and local governments), A-122 (nonprofit organizations), or A-21 (universities). Copies of these circulars can be found at http://www.whitehouse.gov/omb/circulars/. In accordance with EPA policy and the OMB circulars, as appropriate, any recipient of funding must agree not to use assistance funds for lobbying, fund-raising, or political activities (e.g., lobbying members of Congress or lobbying for other Federal grants, cooperative agreements, or contracts). See 40 CFR part 40.

E. Activities to be Funded

The cooperative agreements will fund activities that fulfill the objectives of the NPIC and NPMMP.

1. NPIC. The objectives of the NPIC are as follows:

• To operate a toll-free telephone service providing a variety of accurate, impartial pesticide information to callers in the United States, Puerto Rico, and the Virgin Islands, in real time. The project will operate Monday through Sunday, 10 hours daily. A recording device will be provided to capture off-hour calls.

• To provide access to NPIC and pesticide-related information through a state of the art World Wide Web site and e-mail.

• To serve as a source of factual unbiased information on pesticide chemistry, toxicology, and environmental fate to all inquiries, including industry, government, medical, agricultural sector, news media, as well as the general public.

• To provide the medical community with diagnostic and crisis management assistance involving pesticide incidents in situations pertaining to both human and animal patients.

• To acquire accurate and complete information on all inquiries considered to be pesticide incidents.

• To computerize all inquiry information as well as pesticide incident data for easy retrieval.

2. NPMMP. The objectives of the NPMMP are as follows:

• To make information pertaining to both the clinical and basic toxicology of pesticides available to all inquiries from the United States.

• To provide written information on pesticide toxicology, when available and requested, to respond to inquiries.

• To provide quantitative laboratory measurements of pesticides in environmental samples, as well as in select cases, in biological samples of exposed human beings.

• To define inquiries and incidents relating to human pesticide exposures.

• To develop and maintain computer access to toxicology databases including Toxline (National Library of Medicine), Poisindex (Micromedex), SciFinder Scholar, etc.

• To expand the library of basic and clinical toxicology journals, reports of industry and government, textbooks, and other paper and electronic resources pertaining to pesticides and their impact on human health.

F. Technical Proposals

1. NPIC. The technical proposal should fully describe an approach to fulfilling the objectives of NPIC. It should include but not be limited to:

• Administrative and operational infrastructure that will support NPIC' s goal and objectives.

• The establishment of quality assurance/quality control procedures for, training of pesticide specialists; information materials created and distributed by NPIC; information collected on all calls; and information acquired for use in answering inquiries from the public.

• Training of specialists in all areas of pesticide information, regulations, pesticide toxicology, risk assessment, etc., and especially relating this information to the public.

• Total estimated budget by cost category, e g., personnel, travel, equipment, supplies, contractual services, and most important—indirect rate and costs.

• Other management techniques and procedures necessary to ensure the quality and timeliness of all objectives.

• A complete description of the qualifications of each selected NPIC staff member.

Sample tasks

Prepare a description of the optimal approach to each task, including a working definition of anticipated problems, a description of specific features of the approach to the task, specific staff personnel involved, timing and logistical considerations, estimated resource requirements, and expected work products. Avoid generalized statements, e.g., following established procedures.

• Task 1: Develop a plan to handle calls/inquiries from the general public and medical community involving pesticide incidents, e.g., alleged pesticide-related health concerns, pesticide exposures, whereby expertise in medicine and pesticide toxicology is required. Include all benefits realized by NPIC.

• Task 2: Develop a written and schematic plan that illustrates a comprehensive computer infrastructure and state of the art World Wide Web site that will adequately meet the requirements of NPIC presently and in the future.

• Task 3. Develop a plan to respond to the activities funded by the Pesticide Registration Improvement Act, (Section 33(c)(3)(B)), Worker Protection, that will enhance current scientific and regulatory activities related to worker protection. This plan should include, but not be limited to staffed positions that:

-- Respond to calls received from around the country during the agricultural work day, as well as during evening and weekend hours.

-- Have the ability to respond to calls in English and in Spanish.

-- Have access to translation services to handle calls in Haitian, Creole, and Asian languages.

-- Have the ability to make referrals to relevant health services, when appropriate.

-- Have the ability to make referrals to state enforcement agencies, when appropriate.

-- Have the ability to aggregate call and referral information/data into reports which may be distributed to various organizations involved in the overall Worker Protection effort.

2. NPMMP. The technical proposal should fully describe an approach to fulfilling the objectives of NPMMP. It should include but not be limited to:

• Administrative and operational infrastructure that will support NPMMP's goal and objectives.

• The establishment of quality assurance/quality control procedures for information materials created and distributed by NPMMP; information collected on all calls; and information acquired for use in answering inquiries from the public.

• Total estimated budget by cost category, e g., personnel, travel, equipment, supplies, contractual services, and specifics on how laboratory dollars should be allocated.

• Other management techniques and procedures necessary to ensure the quality and timeliness of all objectives.

• A complete description of the qualifications of each selected NPMMP staff member.

Sample tasks

Prepare a description of the optimal approach to each task, including a working definition of anticipated problems, a description of specific features of the approach to the task, specific staff personnel involved, timing and logistical considerations, estimated resource requirements, and expected work products. Avoid generalized statements, e.g., following established procedures.

• Task 1. Develop a detailed plan on how to handle a call received from an individual reporting the following information: A private pesticide company treated the individuals home for ants and crickets and applied an organophosphate pesticide which the applicator said was extremely safe and could be applied while the family and pet cat was present. When questioned about the product being applied, the applicator refused to provide any additional information except that he had being using these products for years and was never ill from them. The caller explained that the application was made throughout the entire house and some carpets and furniture were actually soaked with the material. The caller also reported that within 24 hours she and her and two children were all complaining of headaches and dizziness, and that the 2-year child appeared to show an overall weakness. In addition, her cat was acting lethargic. The caller did not know whether they could all be getting the flu or whether it was really related to the pesticide treatment.

• Task 2: Develop a plan that will provide an efficient outreach method in order to better reach health care providers and other public health professionals in the services and findings provided by the NPMMP including the cost for such a project.

G. Award and Distribution of Funds

1. Available funding—i. NPIC. The funding for the selected award project is in the form of a cooperative agreement awarded under FIFRA section 20. The total funding available for award for NPIC in FY 2005 is expected to be approximately $1,475,000. At the conclusion of the first 1 year period of performance, incremental funding of up to $1,500,000 may be made available for each year allowing the project to continue for a total of 5 years and totaling up to $8,000,000 to $9,000,000 for the 5-year period, depending on the Agency budget in outlying years.

ii. NPMMP. The funding for the selected award project is in the form of a cooperative agreement awarded under FIFRA section 20. The total funding available for award for the Medical Monitoring project in FY 2005 is expected to be approximately $150,000. At the conclusion of the first 1 year period of performance, incremental funding of up to $150,000 may be available for each year allowing the project to continue for a total of 5 years and totaling up to $750,000 for the 5-year period, depending on the Agency's budget in outlying years.

Should additional funding become available for award, the Agency may make available additional funds under the cooperative agreements based on the solicitation and in accordance with the final selection process, without further notice of competition.

2. Evaluation process and criteria—i.NPIC. Applicants will be screened to ensure that they meet all eligibility criteria and will be disqualified if they do not meet all eligibility criteria. All eligible proposals will be reviewed, evaluated, and ranked by a selected panel of EPA reviewers based on the following evaluation criteria and weights (Total: 100 points):

Technical proposal(see Unit III.F.1. for details)----(Weighting: 30 points)

Academic experience(see Unit III.C.2.i.a. for details)----(Weighting: 15 points)

Technical experience(see Unit III.C.2.i.b. for details)----(Weighting: 25 points)

Sample Tasks(see Unit III.F.1. details)----(Weighting: 30 points, each task is worth 10 points)

ii. NPMMP. Applicants will be screened to ensure that they meet all eligibility criteria and will be disqualified if they do not meet all eligibility criteria. All proposals will be reviewed, evaluated, and ranked by a selected panel of EPA reviewers based on the following evaluation criteria and weights (Total: 100 points):

• Technical proposal(see Unit III.F.2. for details)----(Weighting: 30 points)

• Academic experience (see III.C.2.ii.a. for details)----(Weighting: 15 points)

• Technical experience(see III.C.2.iii.b. for details)----(Weighting: 25 points)

• Sample tasks(see Unit III.F.2. for details)----(Weighting: 30 points, each task is worth 15 points)

3. Selection official. For both NPIC and NPMMP, the funding decision will be made from the group of top rated proposals by the Division Director of the Information Resources and Services Division, Office of Pesticide Programs. The Agency reserves the right to reject all proposals and make no awards.

4. Dispute resolution process. The procedures for dispute resolution at 40 CFR 30.63 and 40 CFR 31.70 apply.

H. Application Requirements

The following application requirements apply for both NPIC and NPMMP projects.

1. Content requirements. Proposals must be typewritten, double spaced in 12 point or larger print using 8.5 x 11 inch paper with minimum 1 inch horizontal and vertical margins. Pages must be numbered in order starting with the cover page and continuing through the appendices. One original and one electronic copy (e-mail or disk) is required.

All proposals must include:

• Completed Standard Form SF 424*, Application for Federal Assistance. Please include organization fax number and e-mail address. The application forms are available on line at http://www.epa.gov/ogd/grants/how_to_apply.htm.

• Completed Section B--Budget Categories, on page 1 of Standard Form SF 424A* (see allowable costs discussion below). Blank forms may be located at http://www.epa.gov/ogd/grants/how_to_apply.htm.

• Detailed itemization of the amounts budgeted by individual Object Class Categories (see allowable costs discussion below).

• Statement regarding whether this proposal is a continuation of a previously funded project. If so, please provide the assistance number and status of the current grant/cooperative agreement.

• Executive Summary. The Executive Summary shall be a stand alone document, not to exceed one page, containing the specifics of what is proposed and what you expect to accomplish regarding measuring or movement toward achieving project goals. This summary should identify the measurable environmental results you expect including potential human health and ecological benefits.

• Table of contents. A one page table listing the different parts of your proposal and the page number on which each part begins.

• Proposal narrative. Includes Parts I-V as identified below (not to exceed 10 pages).

• Part I--Project title. Self explanatory.

• Part II--Objectives. A numbered list (1, 2, etc.) of concisely written project objectives, in most cases, each objective can be stated in a single sentence.

• Part III--Justification. For each objective listed in Part II, discuss the potential outcome in terms of human health, environmental and/or pesticide risk reduction.

• Part IV--Approach and methods. Describe in detail how the program will be carried out. Describe how the system or approach will support the program goals.

• Part V--Impact assessment. Please state how you will evaluate the success of the program in terms of measurable results. How and with what measures will humans be better protected as a result of the program.

2. Appendices. These appendices must be included in the cooperative agreement proposal. Additional appendices are not permitted.

3. Timetable. A timetable that includes what will be accomplished under each of the objectives during the project and when completion of each objective is anticipated.

4. Major participants. List all affiliates or other organizations, educators, trainers and others having a major role in the proposal. Provide name, organizational affiliation or occupation and a description of the role each will play in the project. A brief resume (not to exceed two pages) should be submitted for each major project manager, educator, support staff, or other major participant.

5. Allowable costs. EPA grant funds may only be used for the purposes set forth in the cooperative agreement, and must be consistent with the statutory authority for the award. Cooperative agreement funds may not be used for matching funds for other Federal grants, lobbying, or intervention in Federal regulatory or adjudicatory proceedings. In addition, Federal funds may not be used to sue the Federal government or any other governmental entity. All costs identified in the budget must conform to applicable Federal Cost Principles contained in OMB Circular A-87; A-122; and A-21, as appropriate.

4. Federal requirements for recipients. All applicants should be aware that formal requests for assistance (i.e., SF 424 and associated documentation) may be subject to intergovernmental review under Executive Order 12372, “Intergovernmental Review of Federal Programs.” Applicants should contact their state's single point of contact (SPOC) for further information. There is a list of these contacts at the following web site:http:/whitehouse.gov/omb/grants/spoc.html.

I. Application Procedures

1. Submission instructions. You may submit an application through the mail, by fax, or electronically. Regardless of submission method, all applications must be received by EPA on or before September 22, 2004.

As indicated above, each application must include the original paper copy of the submission, along with one electronic copy. The electronic copy of your application package, should be consolidated into a single file, and that you use Word Perfect WP8/9 for Windows, or Adobe pdf 4/5. Please check your electronic submissions to ensure that it does not contain any computer viruses.

Submit your application using one of the following methods:

By mail to: Frank L. Davido, Office of Pesticide Programs, Information Resources and Services Division, Mail code 7502C, Environmental Protection Agency, 1200 Pennsylvania Ave., NW., Washington, DC 20460.

By fax to: Frank Davido at fax number: (703) 305-4646.

By e-mail to: davido.frank@epa.gov.

2. Notification process. The NPIC/NPMMP Project Officer, Frank L. Davido, Public Information and Records Integrity Branch, Information Resources and Services Division, in OPP will mail an acknowledgment to applicants upon receipt of the application. Once all of the applications have been reviewed, evaluated, and ranked, applicants will be notified of the outcome of the two competitions. A listing of the successful proposals will be posted on the www.epa.gov/pesticides website at the conclusion of the competition. The website may also contain additional information about this announcement including information concerning deadline extensions or other modifications.

J. Recipient Reporting Requirements

1. NPIC. The recipient will submit monthly, quarterly, an annual reports to the EPA Project Officer. The monthly and quarterly reports are due within 30 days after each reporting period. The monthly reports will include:

• A summary of number of calls for the month by major call group.

• A summary of pesticides from a certainty index classification, only those considered as definite/probable (certainty index classification and procedures will be provided to the recipient).

• Detailed summaries of those calls classified as definite and probable.

• A listing of the top 10 active ingredients involved in NPIC calls, including the incident calls.

• Issues of concern (possible trends/issues).

• Unusual events.

The quarterly reports should include: Work status; work progress; difficulties encountered; preliminary data results and a statement of activity anticipated during the subsequent reporting period, including a description of equipment, techniques, and materials to be used or evaluated. A discussion of expenditures along with a comparison of the percentage of the project completed to the project schedule and an explanation of significant discrepancies shall be included in the report. The report should also include any changes of key personnel concerned with the project. The annual report will be of high quality and submitted within 3 months after the reporting period. At minium, it should include an executive summary; project mission statement; NPIC update (inquiry update, achievements, personnel up date, facilities); and traffic report (details will be provided to the recipient). In addition, a separate financial report is required annually. It will include an annual accounting, a quarter, and monthly expenditures by budget categories, e.g., personnel, travel, and supplies. Financial reports/accounting can also be requested at any time.

The Project Officer may request additional information relative to the scope of work in the cooperative agreement which may be useful for Agency reporting under the Government Performance and Results Act.

2. NPMMP. The recipient will submit quarterly and an annual reports to the EPA Project Officer. The quarterly reports are due within 30 days after each reporting period. The quarterly reports should include: Work status; work progress; a description of inquiries and incidents relating to human pesticide incidents/exposures; unusual exposure scenarios cases and misapplications; difficulties encountered; preliminary data results and a statement of activity anticipated during the subsequent reporting period, including a description of equipment, techniques, and materials to be used or evaluated. A discussion of expenditures along with a comparison of the percentage of the project completed to the project schedule and an explanation of significant discrepancies shall be included in the report. The report should also include any changes of key personnel concerned with the project. The annual report will be of high quality and submitted within 3 months after the reporting period. At minium, it should include an executive summary; project mission statement; NPMMP update (inquiry update, achievements, personnel up date, facilities); and traffic report (details will be provided to the recipient). In addition, a separate financial report is required annually. It will include an annual accounting, a quarter, and monthly expenditures by budget categories, e.g., personnel, travel, and supplies. Financial reports/accounting can also be requested at any time.

The Project Officer may request additional information relative to the scope of work in the cooperative agreement which may be useful for Agency reporting under the Government Performance and Results Act.

IV. Submission to Congress and the Comptroller General

Grant solicitations such as this are considered rules for the purpose of the Congressional Review Act (CRA) (5 U.S.C. 801 et seq.). The CRA generally provides that before a rule may take effect, the agency promulgating the rule must submit a rule report, which includes a copy of the rule, to each House of the Congress and to the Comptroller General of the United States. EPA will submit a report containing this grant solicitation and other required information to the U.S. Senate, the U.S. House of Representatives, and the Comptroller General of the United States prior to its publication in the Federal Register. This rule is not a “major rule” as defined by 5 U.S.C. 804(2).

List of Subjects

Environmental protection, Grants, Pesticides, Training.

Dated: August 12, 2004.
Susan B. Hazen,
Acting Assistant Administrator, Office of Prevention, Pesticides and Toxic Substances.

[FR Doc. 04-19232 Filed 8-20-04; 8:45 am]

BILLING CODE 6560-50-S